DEPARTMENT OF AGRICULTURE

Agricultural Marketing Service

7 CFR Part 205

[Doc. AMS-NOP-10-0048; NOP-10-05]

National Organic Program: Notice of Final Guidance for Accredited Certifying Agents and Certified Operations

AGENCY: Agricultural Marketing Service, USDA.

ACTION: Notice of availability of final guidance.

SUMMARY: The National Organic Program (NOP) is announcing the availability of four final guidance documents intended for use by accredited certifying agents and certified operations. The four final guidance documents are entitled as follows: “Compost and Vermicompost in Organic Crop Production (NOP 5021); Wild Crop Harvesting (NOP 5022)”; “Commingling and Contamination Prevention in Organic Production and Handling (NOP 5025)”; and “The Use of Chlorine Materials in Organic Production and Handling (NOP 5026)”. These final guidance documents are intended to inform the public of NOP's current thinking on these topics. These final guidance documents are now available from the NOP through “The Program Handbook: Guidance and Instructions for Accredited Certifying Agents (ACAs) and Certified Operations”. The current edition of the Program Handbook is available online at http://www.ams.usda.gov/NopProgramHandbook, or in print upon request.

DATES: The final guidance documents announced by this notice are effective on May 9, 2011.

FOR FURTHER INFORMATION CONTACT: Melissa Bailey, Ph.D., Director, Standards Division, National Organic Program, USDA-AMS-NOP, 1400 Independence Ave., SW., Room 2646-So., Ag Stop 0268, Washington, DC 20250, E-mail: Melissa.bailey@ams.usda.gov; Telephone: (202) 720-3252; Fax: (202) 205-7808.

SUPPLEMENTARY INFORMATION:

I. Background

On October 13, 2010, the National Organic Program (NOP) published in the Federal Register a notice of availability with request for public comment on five draft guidance documents (75 FR 62693). The topics covered in the draft documents addressed recommendations issued by the National Organic Standards Board (NOSB) and the USDA Office of Inspector General (OIG) in a March 2010 audit report of the NOP. The five draft guidance topics included compost and vermicompost, wild crop harvesting, outdoor access for poultry, commingling and contamination prevention, and the use of chlorine materials. The five draft guidances can be viewed on-line at http://www.ams.usda.gov/NopDraftGuidance. The 60-day comment period closed on December 13, 2010.

The NOP received a total of 69 individual comments and 22,096 form letter responses on the five draft guidance documents. “NOP Notice 11-7” provides a complete discussion of the comments received and the rationale behind any changes made to the guidance documents as well as any changes proposed, but not made to the guidance documents. “NOP Notice 11-7” can be found at http://www.ams.usda.gov/NOPCorrespondance.

Based upon the comments received, the NOP revised and is publishing four of the five guidance documents as final: “NOP 5021—Compost and Vermicompost in Organic Crop Production”; “NOP 5022—Wild Crop Harvesting”; “NOP 5025—Commingling and Contamination Prevention in Organic Production and Handling”; and “NOP 5026—The Use of Chlorine Materials in Organic Production and Handling”. Based upon the comments received, the NOP is not finalizing the draft guidance, “NOP 5024—Outdoor Access for Poultry”. The NOP intends to initiate a separate rulemaking on the outdoor access requirements for poultry in 2011.

The four final guidance documents are now available from the NOP through “The Program Handbook: Guidance and Instructions for Accredited Certifying Agents (ACAs) and Certified Operations”. This Handbook provides those who own, manage, or certify organic operations with guidance and instructions that can assist them in complying with the NOP regulations. The current edition of the Program Handbook is available online at http://www.ams.usda.gov/NopProgramHandbook.

II. Significance of Guidance

These final guidance documents are being issued in accordance with the Office of Management and Budget (OMB) Bulletin on Agency Good Guidance Practices (GGPs) (January 25, 2007, 72 FR 3432-3440). The purpose of GGPs is to ensure that program guidance documents are developed with adequate public participation, are readily available to the public, and are not applied as binding requirements. Final guidance represents the NOP's current thinking on these topics. It does not create or confer any rights for, or on, any person and does not operate to bind the NOP or the public. Guidance documents are intended to provide a uniform method for operations to comply that can reduce the burden of developing their own methods and simplify audits and inspections. Alternative approaches that can demonstrate compliance with the Organic Foods Production Act (OFPA), as amended (7 U.S.C. 6501-6522), and its implementing regulations are also acceptable. As with any alternative compliance approach, the NOP strongly encourages industry to discuss alternative approaches with the NOP before implementing them to avoid unnecessary or wasteful expenditures of resources and to ensure the proposed alternative approach complies with the Act and its implementing regulations.

III. Electronic Access

Persons with access to Internet may obtain a copy of final guidance in the “Program Handbook” along with the “NOP Notice 11-7” at NOP's Web site at http://www.ams.usda.gov/nop.

Dated: May 2, 2011.
Rayne Pegg,
Administrator, Agricultural Marketing Service.

[FR Doc. 2011-11115 Filed 5-5-11; 8:45 am]

BILLING CODE 3410-02-P